DEPARTMENT OF THE INTERIOR

Fish and Wildlife Service

Proposed Safe Harbor Agreement for the Oregon Chub, Lane County, OR

AGENCY: Fish and Wildlife Service, Interior.

ACTION: Notice of availability; receipt of application.

SUMMARY: Marilyn and Randy Sprick have applied to the U.S. Fish and Wildlife Service (Service) for an enhancement of survival permit pursuant to section 10(a)(1)(A) of the Endangered Species Act of 1973, as amended (Act). The permit application includes a proposed Safe Harbor Agreement (Agreement) between Mr. and Mrs. Sprick, the Oregon Department of Fish and Wildlife, and the Service. The proposed term of the Agreement is 10 years and the term of the permit is 30 years. The requested permit would authorize Mr. and Mrs. Sprick to carry out habitat management measures that would benefit the federally-listed as endangered Oregon chub (Oregonichthys crameri). The covered area or geographic scope of this Agreement includes an artificial pond surrounded by a 100-foot buffer. We request comments from the public on the permit application, proposed Agreement, and related documents, which are available for review.

DATES: Comments must be received from interested parties on or before October 5, 2007. The final permit decision will be made no sooner than October 5, 2007.

ADDRESSES: You may obtain copies of the documents for review by contacting Richard Szlemp, U.S. Fish and Wildlife Service, 2600 SE. 98th Ave., Suite 100, Portland, Oregon 97266; facsimile (503) 231-6195; or by making an appointment to view the documents at the above address during normal business hours. You may also view the documents on the Internet through http://www.fws.gov/oregonfwo/species/. You may submit your written comments to Kemper M. McMaster, State Supervisor, Fish and Wildlife Service, 2600 SE. 98th Ave., Suite 100, Portland, Oregon 97266, or facsimile (503) 231-6195. Include your name and address in your comments and refer to the ‘Sprick SHA’.

FOR FURTHER INFORMATION CONTACT: Richard Szlemp (see ADDRESSES) (503) 231-6179.

SUPPLEMENTARY INFORMATION: Under a Safe Harbor Agreement, participating landowners voluntarily undertake management activities on their property to enhance, restore, or maintain habitat benefiting species listed under the Act (16 U.S.C. 1531 et seq.). Safe Harbor Agreements, and the subsequent enhancement of survival permits that are issued pursuant to section 10(a)(1)(A) of the Act, encourage private and other non-federal property owners to implement conservation efforts for listed species by assuring the landowners that they will not be subjected to increased property use restrictions as a result of their efforts to attract listed species to their property, or to increase the numbers or distribution of listed species already on their property. Application requirements and issuance criteria for enhancement of survival permits through Safe Harbor Agreements are found in 50 CFR 17.22(c). These permits allow any necessary future incidental take of any covered species above the mutually agreed upon baseline conditions for those species in accordance with the terms of the permit and accompanying agreement.

We have worked with Mr. and Mrs. Sprick and the Oregon Department of Fish and Wildlife to develop the proposed Agreement for the conservation of the Oregon chub. The area covered by this Agreement is composed of an artificial pond with an approximate area of 0.65 acre, and a 100-foot buffer surrounding the pond. The total area covered by this Agreement is approximately 1.7 acres. Environmental baseline conditions have been established as zero Oregon chub being present in the pond. The purpose of this Agreement is to establish a new population of Oregon chub as refugia for the natural population. Under this Agreement, a minimum of 500 Oregon chub will be introduced from an existing wild population by the Oregon Department of Fish and Wildlife. The estimated carrying capacity of the Sprick's pond is approximately 1,000 individuals. The Oregon Department of Fish and Wildlife will monitor the Oregon chub population and habitat conditions at least once a year. Upon reaching this threshold, this population may be used as a source for translocations by the Oregon Department of Fish and Wildlife, but would not be lowered beyond 500 individuals at the time of removal.

The Spricks will avoid conducting activities that could adversely affect the Oregon chub's habitat within 100 feet of the pond's perimeter during the 10-year term of the Agreement. The permit duration is 30 years, which would allow up to an additional 20 years for the terms of the Agreement to remain in effect before a return to baseline conditions may occur.

Without the regulatory assurances provided through the Agreement and permit, landowners may otherwise be unwilling or reluctant to engage in activities that would place federally-listed species such as the Oregon chub onto their properties. The proposed Agreement is expected to provide a net conservation benefit to the Oregon chub by creating a protected refugia, increasing the population, and translocating individuals, beyond those needed to maintain the refugia population, to other suitable locations.

The Oregon chub was listed as an endangered species by the Service in 1993 (58 FR 53800). At the time of listing, their were only five known populations and they were restricted to an 18.6 mile stretch of the Middle Fork Willamette River drainage, representing approximately two percent of the species' historic range. In 2006, there were 18 populations totaling 500 or more individuals. Oregon chub remain at risk due to the loss of suitable habitat and the continued threats posed by the proliferation of non-native fishes, water withdrawals, accelerated sedimentation due to land management activities, and potential chemical spills or careless pesticide applications. Their status has improved in recent years, resulting primarily from successful introductions and the discovery of previously undocumented populations.

The Service has made a preliminary determination that the proposed Agreement and permit application are eligible for a categorical exclusion under the National Environmental Policy Act of 1969 (NEPA). We explain the basis for this determination in an Environmental Action Statement that is also available for public review (see ADDRESSES).

The Service will evaluate the permit application, associated documents, and comments submitted thereon to determine whether the permit application meets the requirements of section 10(a) of the Act and NEPA regulations. All comments received, including names and addresses, will become part of the administrative record and will be available for review pursuant to section 10(c) of the Act. Individual respondents may request that we withhold their home address from the record, which we will honor to the extent allowable by law. If you wish us to withhold your name and/or address, you must state this prominently at the beginning of your comment. Anonymous comments will not be considered. All submissions from organizations or businesses, and from individuals identifying themselves as representatives or officials of organizations or businesses, are available for public inspection in their entirety.

If we determine that all requirements are met, we will sign the Agreement and issue an enhancement of survival permit under section 10(a)(1)(A) of the Act to Mr. and Mrs. Sprick for the take of Oregon chub, incidental to otherwise lawful activities in accordance with the terms of the Agreement. This notice is provided pursuant to section 10(c) of the Act and NEPA regulations (40 CFR 1506.6).

Dated: August 29, 2007.
Kemper M. McMaster,
State Supervisor, Fish and Wildlife Service, Oregon Fish and Wildlife Office, Portland, Oregon.

[FR Doc. 07-4316 Filed 9-4-07; 8:45 am]

BILLING CODE 4310-55-P